FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 21, 2014.

A. Federal Reserve Bank of Chicago (Colette A. Fried, Assistant Vice President) 230 South LaSalle Street, Chicago, Illinois 60690-1414:

1. Bruce Gabrielse, Barbara L. Gabrielse, both of Fitchburg, Wisconsin; Brian Gabrielse, Jennifer Gabrielse, Bradley Gabrielse, Brenton Gabrielse, Katelyn Gabrielse, Kimberly Gabrielse, Matthew Gabrielse, all of Madison, Wisconsin; Jack L. Gabrielse, Denise Gabrielse, both of Oregon, Wisconsin; the Diane L. Gabrielse Declaration of Trust dated September 2, 1999, Diane L. Gabrielse, individually and as trustee of the Diane L. Gabrielse Declaration of Trust dated September 2, 1999, the Thomas H. Gabrielse Declaration of Trust dated September 2, 1999, Thomas H. Gabrielse as trustee of the Thomas H. Gabrielse Declaration of Trust dated September 2, 1999, all of Orland Park, Illinois; Mark Oostdyk, Heidi DeBruin, Kaye Oostdyk, all of Stoughton, Wisconsin; Stephanie Clark, St. Johns, Florida; David Gabrielse, Palos Heights, Illinois; Jeffrey Gabrielse, Jonathan Oostdyk, both of Plymouth, Minnesota; Justin Gabrielse, Maple Grove, Minnesota; Jayne Locascio, Palos Park, Illinois; William Oostdyk, South Elgin, Illinois; Valerie Therrien, Minneapolis, Minnesota; Katie Nelson, Frostburg, Maryland; and Keith Gabrielse, Cottage Grove, Wisconsin; together as a group acting in concert, to retain voting shares of Oak Financial, Inc., and thereby indirectly retain voting shares of Oak Bank, both in Fitchburg, Wisconsin.

B. Federal Reserve Bank of Kansas City (Dennis Denney, Assistant Vice President) 1 Memorial Drive, Kansas City, Missouri 64198-0001:

1. Tommy D. Craighead, Norman, Oklahoma, as trustee of the TCC & BJC Trusts No. 1 through 7, Ardmore, Oklahoma; to acquire voting shares of Citizens Commerce Corporation, and thereby indirectly acquire voting shares of Citizens Bank & Trust Company of Ardmore, both in Ardmore, Oklahoma.

Board of Governors of the Federal Reserve System, May 1, 2014.
Michael J. Lewandowski,
Associate Secretary of the Board.

[FR Doc. 2014-10323 Filed 5-5-14; 8:45 am]

BILLING CODE 6210-01-P